CONSUMER PRODUCT SAFETY COMMISSION

Sunshine Act Meeting Notice

TIME AND DATE: Wednesday, February 20, 2013, 10:00 a.m.-11:00 a.m.

PLACE: Room 420, Bethesda Towers, 4330 East West Highway, Bethesda, Maryland.

STATUS: Commission Meeting—Open to the Public.

Matters To Be Considered

Decisional Matter: Sections 1112/1118 Requirements for Third Party Conformity Assessment Bodies—Draft Final.

A live webcast of the Meeting can be viewed at www.cpsc.gov/webcast.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: February 12, 2013.
Todd A. Stevenson,
Secretary.

[FR Doc. 2013-03561 Filed 2-12-13; 4:15 pm]

BILLING CODE 6355-01-P